ENVIRONMENTAL PROTECTION AGENCY

40 CFR Part 282

[FRL-7658-2]

Underground Storage Tank Program: Approved State Program for Virginia

AGENCY: Environmental Protection Agency (EPA).

ACTION: Proposed rule.

SUMMARY: EPA is proposing to codify the previously authorized underground storage tank (UST) program of the Commonwealth of Virginia. This codification reflects the Commonwealth's program in effect at the time EPA granted Virginia approval (September 28, 1998). In the “Rules and Regulations” section of this Federal Register, EPA is codifying the program by an immediate final rule. EPA did not make a proposal prior to the immediate final rule because we believe this action is not controversial and do not expect comments that oppose it. We have explained the reasons for this codification in the preamble to the immediate final rule. Unless we get written comments which oppose this codification during the comment period, the immediate final rule will become effective on the date it establishes, and we will not take further action on this proposal. If we get comments that oppose this action, we will withdraw the immediate final rule and it will not take effect. We will then respond to public comments in a later final rule based on this proposal. You may not have another opportunity for comment. If you want to comment on this action, you must do so at this time.

DATES: Send your written comments by July 15, 2004.

ADDRESSES: Send written comments to Ms. Rosemarie Nino, Mailcode 3WC21, RCRA State Programs Branch, U.S. EPA Region III, 1650 Arch Street, Philadelphia, PA 19103-2029, Phone number: (215) 814-3377. Comments may also be submitted electronically through the Internet to: nino.rose@epa.gov or by facsimile at (215) 814-3163. You can examine copies of the codification materials during normal business hours at the following location: EPA Region III Library, 2nd Floor, 1650 Arch Street, Philadelphia, PA 19103-2029, Phone number: (215) 814-5254.

FOR FURTHER INFORMATION CONTACT: Ms. Rosemarie Nino, Mailcode 3WC21, RCRA State Programs Branch, U.S. EPA Region III, 1650 Arch Street, Philadelphia, PA 19103-2029, Phone (215) 814-3377.

SUPPLEMENTARY INFORMATION: For additional information, please see the immediate final rule published in the “Rules and Regulations” section of this Federal Register.

Dated: March 25, 2004.
Donald S. Welsh,
Regional Administrator, EPA Region III.

[FR Doc. 04-13284 Filed 6-14-04; 8:45 am]

BILLING CODE 6560-50-P